DEPARTMENT OF AGRICULTURE

Rural Housing Service

[Docket No.: RHS-25-MFH-0001]

Amendment of Notice of Funding Availability for Multifamily Housing Programs

AGENCY: Rural Housing Service, USDA.

ACTION: Notice.

SUMMARY: The Rural Housing Service (RHS or Agency), an agency within the United States Department of Agriculture, Rural Development (RD), is amending two program funding opportunities to remove references to the prior Administration's key priorities and DEI (diversity, equity, and inclusion)-related scoring criteria to bring them into compliance with the Executive Order, “Ending Radical and Wasteful Government DEI Programs and Preferencing”, issued on January 20, 2025. The following funding notices are covered by this amendment: Notice of Funds Availability for the Multifamily Housing Preservation and Revitalization Demonstration Program and for Section 515 Subsequent Loans for Preservation Activities for the Fiscal Year 2024, and Consolidated Multifamily Housing Technical Assistance Grant Program Notice of Funding Availability Fiscal Year 2024. This notice also confirms that previous Administration key priorities will not be considered during application scoring and makes clear that applicants who already have applied need not reapply.

DATES: This notice is applicable April 2, 2025.

ADDRESSES: All addresses remain the same as in the original funding opportunity announcements.

FOR FURTHER INFORMATION CONTACT: For any questions, please contact Daniel J. Rogers, Director, Production & Preservation, Rural Development, Office of Multifamily Housing, at Daniel.Rogers2@usda.gov or (202)-400-0127.

SUPPLEMENTARY INFORMATION:

A. Overview

Under the previous Administration, RD established three key priorities that were made public and incorporated into program activities. The RD Key Priorities were incorporated into the funding notices in the following manner. First, a general reference to the Administration's key priorities was included in the introductory section of the RD funding notices.

The previous Administration's RD Key Priorities for discretionary points were generally:

(a) Creating More and Better Market Opportunities. Assisting rural communities to recover economically through more and better market opportunities and through improved infrastructure.

(b) Advancing Racial Justice, Place-Based Equity, and Opportunity. Ensuring all rural residents have equitable access to RD programs and benefits from RD funded projects.

(c) Addressing Climate Change and Environmental Justice. Reducing climate pollution and increasing resilience to the impacts of climate change through economic support to rural communities.

Second, the two funding notices made points available or permitted the award of discretionary points related to one or more of the key priorities. The notices provided that these points would or could be considered as part of the application scoring.

RHS has identified the following program funding opportunities, listed in Table 1, that reference the prior Administration's key priorities and/or DEI-related scoring criteria.

Table 1
Funding notice | FR citation | Key priorities referenced/scoring
Notice of Funds Availability for the Multifamily Housing Preservation and Revitalization Demonstration Program and for Section 515 Subsequent Loans for Preservation Activities for the Fiscal Year (FY) 2024 | 89 FR 79229 | Introduction—reference. Scoring—Sections J11, J12, and J13.
Consolidated Multifamily Housing Technical Assistance Grant Program Notice of Funding Availability Fiscal Year 2024 | 89 FR 76065 | Overview—reference. Scoring—Administration Discretionary Points, Sect. 6 for each program listed in the consolidated notice.

B. Amendments Related to Previous Administration Key Priorities and DEI-Related Scoring Criteria

The funding opportunities identified in Table 1 are hereby amended to remove reference to or consideration of those Key Priorities. In addition, to the extent the program notices made points available or permitted the award of discretionary for meeting the Key Priorities, those points will not be available or awarded.

C. Guidance to Applicants

Applicants do not need to withdraw, submit a new or revised application, or supplement their application. The program will review the application consistent with this notice.

Applicants may direct any questions related to the program funding opportunity to the “address” or “further contact information” provided in the original notice.

Angilla Denton,
Acting Administrator, Rural Housing Service.

[FR Doc. 2025-05663 Filed 4-1-25; 8:45 am]

BILLING CODE 3410-XV-P